DEPARTMENT OF HEALTH AND HUMAN SERVICES

Administration for Children and Families

Proposed Information Collection Activity: Comment Request

Proposed Projects

Title: Head Start Impact Study.

OMB No.: New Collection.

Description: The Administration on Children, Youth and Families (ACYF), Administration for Children and Families (ACF) of the Department of Health and Human Services (DHHS) is requesting comments on plans to conduct the Head Start Impact Study. This study is being conducted under contract with Westat, Inc. (with the Urban Institute, American Institutes for Research, and Decision Information Resources as their subcontractors) (#282-00-0022) to collect information for determining, on a national basis, how Head Start affects the school readiness of children participating in the program as compared to children not enrolled in Head Start and to determine under which conditions Head Start works best and for which children.

The Head Start Impact Study involves ten waves of data collection. The first two waves will occur during the field test in fall 2001 and spring 2002. The field test will involve approximately 600 first time enrolled three- and four-year old preschool children across eight grantee/delegate agencies representing different community contexts. The children participating will be randomly assigned to either a Head Start group (that receives Head Start program services) or a comparison group (that does not receive Head Start services but may enroll in other available services selected by their parents or be cared for at home). Waves three through ten will involve data collection for the full-scale study. The Head Start Impact Study is a longitudinal study that will involve approximately 5,000-6,000 first time enrolled three- and four-year old preschool children across an estimated 75 nationally representative grantee/delegate agencies (in communities where there are more eligible children and families than can be served by the program). Data collection for the full-scale study will begin in fall 2002 and extend through spring 2006 with child assessments, conducted in the fall and spring of the Head Start years and in the spring of the kindergarten and first grade years and parent interviews conducted in the fall and spring of each year. Interviews/surveys with program staff/care providers, and quality of care assessments will be conducted in the spring of each year.

This schedule of data collection is necessitated by the mandate in Head Start's 1998 reauthorization (Coates Human Services Amendments of 1998, PL 05-285) that DHHS conduct research to determine, on a national level, the impact of Head Start on the children it serves.

Respondents: Individuals or households, Head Start Agencies, school districts, and other child care providers.

Annual Burden Estimates: Estimated Response Burden for Respondents to the Head Start Impact Study—fall 2001, spring 2002, fall 2002, spring 2003, fall 2003, spring 2004, fall 2004, spring 2005, fall 2005, and spring 2006.

Instrument | Number of respondents | Number of responses per respondent | Average burden hours per response | Total burden hours
Year 1 (fall 2001):
Parent Interviews | 600 | 1 | 1.00 | 600
Child Assessments | 600 | 1 | 0.66 | 400
Year 1 (spring 2002):
Parent Interviews | 540 | 1 | 1.00 | 540
Child Assessments | 540 | 1 | 0.66 | 360
Teacher Ratings | 108 | 5 | 0.25 | 27
Family Services Coordinators | 50 | 1 | 0.75 | 38
Education Coordinators | 50 | 1 | 0.75 | 38
Center Directors/Principals | 50 | 1 | 1.00 | 50
Classroom Teachers/Care Providers | 108 | 1 | 0.50 | 54
Total—year 1 |  |  |  | 2,107
Year 2 (fall 2002):
Parent Interviews | 5,111 | 1 | 1.00 | 5,111
Child Assessments | 5,111 | 1 | 0.66 | 3,407
Year 2 (spring 2003):
Parent Interviews | 4,599 | 1 | 1.00 | 4,599
Child Assessments | 4,599 | 1 | 0.66 | 3,066
Teacher Ratings | 920 | 5 | 0.25 | 230
Family Services Coordinators | 500 | 1 | 0.75 | 375
Education Coordinators | 500 | 1 | 0.75 | 375
Center Directors/Principals | 500 | 1 | 1.00 | 500
Classroom Teachers/Care Providers | 920 | 1 | 0.50 | 460
Total—year 2 |  |  |  | 18,123
Year 3 (fall 2003):
Parent Interviews | 4,139 | 1 | 1.00 | 4,139
Child Assessments | 2,287 | 1 | 0.66 | 1,525
Year 3 (spring 2004):
Parent Interviews | 3,910 | 1 | 1.00 | 3,910
Child Assessments | 3,910 | 1 | 0.66 | 2,607
Teacher Ratings | 782 | 5 | 0.25 | 196
Family Services Coordinators | 450 | 1 | 0.75 | 338
Education Coordinators | 450 | 1 | 0.75 | 338
Center Directors/Principals | 450 | 1 | 1.00 | 450
Classroom Teachers/Care Providers | 782 | 1 | 0.50 | 391
Total—year 3 |  |  |  | 13,894
Year 4 (fall 2004):
Parent Interviews | 3,519 | 1 | 1.00 | 3,519
Year 4 (spring 2005):
Parent Interviews | 3,519 | 1 | 1.00 | 3,519
Child Assessments | 3,519 | 1 | 0.66 | 2,346
Teacher Ratings | 704 | 5 | 0.25 | 176
Family Services Coordinators | 405 | 1 | 0.75 | 304
Education Coordinators | 405 | 1 | 0.75 | 304
Center Directors/Principals | 405 | 1 | 1.00 | 405
Classroom Teachers/Care Providers | 704 | 1 | 0.50 | 352
Total—year 4 |  |  |  | 10,925
Year 5 (fall 2005):
Parent Interviews | 1,667 | 1 | 1.00 | 1,667
Year 5 (spring 2006):
Parent Interviews | 1,667 | 1 | 1.00 | 1,667
Child Assessments | 1,667 | 1 | 0.66 | 1,111
Teacher Ratings | 333 | 5 | 0.25 | 83
Family Services Coordinators | 300 | 1 | 0.75 | 225
Education Coordinators | 300 | 1 | 0.75 | 225
Center Directors/Principals | 300 | 1 | 1.00 | 300
Classroom Teachers/Care Providers | 333 | 1 | 0.50 | 167
Total—year 5 |  |  |  | 5,445
Estimated Total Annual Burden Hours |  |  |  | 10,098

Note: The 10,098 Total Annual Burden Hours is based on an average of 2001-02, 2002-03, 2003-04, 2004-05, and 2005-06 estimated burden hours.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 26, 2001.
Bob Sargis,
Reports Clearance Officer.

[FR Doc. 01-10793 Filed 4-30-01; 8:45 am]

BILLING CODE 4184-01-M